DEPARTMENT OF AGRICULTURE

Forest Service

National Advisory Committee for Implementation of the National Forest System Land Management Planning Rule

AGENCY: Forest Service, USDA.

ACTION: Notice of meeting.

SUMMARY: The National Advisory Committee for Implementation of the National Forest System Land Management Planning Rule (Committee) will meet in Sacramento, California. Attendees may also participate via webinar and conference call. The Committee operates in compliance with the Federal Advisory Committee Act (FACA) (Pub. L. 92-463). Additional information concerning the Committee can be found by visiting the Committee's Web site at: http://www.fs.usda.gov/main/planningrule/committee.

DATES: The meeting will be held, in-person and via webinar/conference call on the following dates:

• Wednesday, March 5, 2014 from 8:00 a.m. to 5:00 p.m. PST

• Thursday, March 6, 2014 from 8:00 a.m. to 5:00 p.m. PST

• Friday, March 7, 2014 from 8:00 a.m. to 12:00 p.m. PST

ADDRESSES: The meeting will be held at the Hyatt Regency Sacramento, 1209 L Street, Sacramento, CA 95814. Attendees may also participate via webinar and conference call. For anyone who would like to attend via webinar and conference call, please visit the Web site listed above or email Chalonda Jasper at cjasper@fs.fed.us for more information. Written comments must be sent to USDA Forest Service, Ecosystem Management Coordination, 201 14th Street SW., Mail Stop 1104, Washington, DC 20250-1104. Comments may also be sent via email to Chalonda Jasper at cjasper@fs.fed.us, or via facsimile to 703-235-0138.

All comments are placed in the record and are available for public inspection and copying, including names and addresses when provided. The public may inspect comments received at 201 14th Street SW., Washington, DC, 2rd Floor Central. Please contact, Chalonda Jasper at 202-260-9400, cjasper@fs.fed.us, to facilitate entry into the building to view comments.

FOR FURTHER INFORMATION CONTACT: Chalonda Jasper, Ecosystem Management Coordination, 202-260-9400, cjasper@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The purpose of this meeting is to begin formulating a work plan for the next six months. This meeting is open to the public.

The following business will be conducted:

1. Discussion of a work plan;

2. Discussion of smaller work group findings; and

3. Administrative tasks.

The agenda and a summary of the meeting will be posted on the Committee's Web site within 21 days of the meeting.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: February 14, 2014.
James M. Peña,
Associate Deputy Chief, National Forest System.

[FR Doc. 2014-03791 Filed 2-21-14; 8:45 am]

BILLING CODE 3411-15-P